DEPARTMENT OF DEFENSE

Department of the Navy

Notice of Public Hearings for a Draft Supplemental Environmental Impact Statement for the Surveillance Towed Array Sensor System Low Frequency Active (SURTASS LFA) Sonar

AGENCY: Department of the Navy, DOD.

ACTION: Notice.

SUMMARY: Pursuant to Section 102(2) of the National Environmental Policy Act (NEPA) of 1969 as implemented by the Council on Environmental Quality regulations (40 CFR parts 1500-1508), the Department of the Navy (Navy) has prepared and filed with the U.S. Environmental Protection Agency a Draft Supplemental Environmental Impact Statement (Draft SEIS) to provide supplemental analyses for the Navy's employment of Surveillance Towed Array Sensor System Low Frequency Active (SURTASS LFA) sonar systems. In accordance with NEPA and its implementing regulations, this notice announces the dates and locations of public hearings.

DATES: Public hearing dates are as follows:

1. Thursday, December 1, 2005, 9 a.m. to 11 a.m., Washington, DC.

2. Saturday, December 3, 2005, 1 p.m. to 3 p.m., San Diego, CA.

3. Monday, December 5, 2005, 7 p.m. to 9 p.m., Honolulu, HI.

ADDRESSES: Public hearing locations are as follows:

1. Washington, DC—Navy Memorial, The President's Room, 701 Pennsylvania Ave, NW., Washington, DC 20004-2608.

2. San Diego, CA—San Diego Aircraft Carrier Museum-USS MIDWAY, The Wardroom, 910 N. Harbor Drive, San Diego, CA 92101. Note: Separate entrance provided; no fee required.

3. Honolulu, HI—University of Hawaii at Manoa, Campus Center, 2465 Campus Rd, Honolulu, HI 96822.

FOR FURTHER INFORMATION CONTACT: Ms. Kimberly Skrupky, telephone 703-465-8404; Fax 703-465-8420.

SUPPLEMENTARY INFORMATION: The proposed action is the Navy's employment of up to four SURTASS LFA sonar systems in the oceanic areas of the Pacific, Atlantic, and Indian oceans, and the Mediterranean Sea. The purposes of this supplemental analysis are to respond to deficiencies noted by the U.S. District Court of the Northern District of California's August 2003 Opinion and Order; include analysis of potential system upgrades; provide necessary information for compliance under the Marine Mammal Protection Act as amended; and provide additional information and analyses pertinent to the proposed action.

The Draft SEIS provides an analysis of the proposed alternatives for the employment of SURTASS LFA sonar. In addition to the No Action alternative, four alternatives were analyzed to satisfy the Court's findings and to determine the potential effects of changes to the proposed action. These alternatives include coastline standoff restrictions of 22 and 46 kilometers (12 and 25 nautical miles), seasonal variations, and additional offshore biologically important areas.

The Draft SEIS has been distributed to various Federal, state, and local agencies, as well as other interested individuals and organizations. In addition, copies of the Draft SEIS have been distributed to the following libraries for public review:

1. Los Angeles Public Library, Malabar Branch, 2801 Wabash Ave, Los Angeles, CA 90033.

2. San Diego Public Library, 820 E St, San Diego, CA 92101-6478.

3. California State Library, Sutro Library, 480 Winston Drive, San Francisco, CA 94132.

4. San Francisco Public Library, 100 Larkin St (at Grove), San Francisco, CA 94102.

5. Hawaii Documents Center, Hawaii State Library, 478 South King St, Honolulu, HI 96813.

6. Kaneohe Public Library, 45-829 Kamehameha Highway, Kaneohe, HI 96744.

7. Hilo Public Library, 300 Waianuenue Ave, Hilo, HI 96720.

8. Wailuku Public Library, 251 High St, Wailuku, HI 96793.

9. Lihue Public Library, 4344 Hardy St, Lihue, HI 96766.

10. Boston Public Library, 700 Boylston St, Copley Square, Boston, MA 02116.

11. Norfolk Public Library, Kirn Memorial Library, 301 East City Hall Ave, Norfolk, VA 23510.

12. Virginia Beach Public Library, 4100 Virginia Beach Blvd, Virginia Beach, VA 23452.

13. Seattle Public Library, 1000 Fourth Ave, Seattle, WA 98104.

14. Martin Luther King Memorial Library, 901 G St, NW., Washington, DC 20001.

An electronic copy of the Draft SEIS is also available for public viewing and download at: http://www.surtass-lfa-eis.com/. Single copies of the Draft SEIS and Executive Summary are available upon request by contacting: SURTASS LFA Sonar EIS Program Manager, 4100 Fairfax Drive, Ste 730, Arlington, VA 22203; or E-Mail: eisteam@mindspring.com.

Federal, state, and local agencies and interested parties are invited and urged to be present or represented at the hearing. Written comments can be submitted at the public hearings or mailed to: SURTASS LFA Sonar EIS Program Manager, 4100 Fairfax Drive, Ste 730, Arlington, VA 22203; or E-Mail: eisteam@mindspring.com. Oral statements will be heard and transcribed by a stenographer; however, to ensure the accuracy of the record, all statements should be submitted in writing. All statements, both oral and written, will become part of the public record on the Draft SEIS and will be addressed in the Final Supplemental Environmental Impact Statement (Final SEIS). Equal weight will be given to both oral and written statements.

In the interest of available time, and to ensure all who wish to give an oral statement have the opportunity to do so, each speaker's comments will be limited to three (3) minutes. If a longer statement is to be presented, it should be summarized at the public hearing and the full text submitted in writing either at the hearing or mailed to: SURTASS LFA Sonar EIS Program Manager, 4100 Fairfax Drive, Ste 730, Arlington, VA 22203; or E-Mail: eisteam@mindspring.com.

All written comments must be postmarked by Tuesday, December 27, 2005, to ensure that they become part of the official record. All comments will be addressed in the Final SEIS.

Dated: November 10, 2005.
Eric McDonald,
Lieutenant Commander, Judge Advocate General's Corps, U.S. Navy, Federal Register Liaison Officer.

[FR Doc. 05-22709 Filed 11-15-05; 8:45 am]

BILLING CODE 3810-FF-P